DEPARTMENT OF JUSTICE

Re-Publication of Notice of Lodging of Proposed Third Amendment to Consent Decree Under the Clean Air Act

On July 23, 2013, the Department of Justice lodged a proposed Third Amendment to the Consent Decree with the United States District Court for the Southern District of Illinois in the lawsuit entitled United States et al v. Lafarge North America et al, Civil Action No. 3:10-cv-44. Notice of lodging of the Proposed Third Amendment to the Consent Decree was first published in the Federal Register on July 26, 2013 (78 FR 45,272). We are re-publishing this notice to correct a typographical error in the Internet Web site address where the proposed Third Amendment can be accessed electronically.

Following public notice and opportunity for public comment, on March 18, 2010 the Court entered a Consent Decree resolving certain violations of the federal Clean Air Act, 42 U.S.C. 7401 et seq. by Lafarge North America, Lafarge Building Materials, and Lafarge Midwest (collectively, the “Lafarge Companies”) alleged by Plaintiff United States and Plaintiff-Intervenors the State of Alabama, the State of Illinois, the State of Iowa, the State of Kansas, the State of Michigan, the State of Missouri, the State of New York, the State of Ohio, the Commonwealth of Pennsylvania Department of Environmental Protection, the South Carolina Department of Health and Environmental Control, the Washington State Department of Ecology, the Oklahoma Department of Environmental Quality, and the Puget Sound Clean Air Agency (collectively, “State Plaintiffs”). The Court amended the Consent Decree on April 28, 2011 and again on October 4, 2012.

The United States, the State of New York, and the Lafarge Companies have agreed to further amend the Consent Decree to provide the Lafarge Companies with an extension of time of until July 1, 2016 to complete construction of a replacement kiln at the Ravena, New York cement plant in return for commitments by the Lafarge Companies set forth in the proposed Third Amendment to the Consent Decree. In general, those commitments by the Lafarge Companies are that beginning on January 1, 2013, the Lafarge Companies shall comply with stringent emission caps, specified herein, for sulfur dioxide and nitrogen oxides from the Ravena cement plant, and further that the Lafarge Companies shall fund emission reduction projects in the community surrounding the plant.

The publication of this notice continues a period for public comment on the proposed Third Amendment to the Consent Decree that began on July 26, 2013. Comments should be addressed to the Assistant Attorney General, Environment and Natural Resources Division, and should refer to United States et al v. Lafarge North America et al, D.J. Ref. No. 90-5-2-1-08221. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, D.C. 20044-7611.

During the public comment period, the proposed Third Amendment to the Consent Decree may be examined and downloaded at this Justice Department Web site: http://www.usdoj.gov/enrd/Consent_Decrees.html. We will provide a paper copy of the proposed Consent Decree upon written request and payment of reproduction costs. Please mail your request and payment to: Consent Decree Library, U.S. DOJ—ENRD, P.O. Box 7611, Washington, DC 20044-7611.

Please enclose a check or money order for $5.75 (25 cents per page reproduction cost) payable to the United States Treasury. For a paper copy without the exhibits and signature pages, the cost is $4.25.

Maureen Katz,
Assistant Section Chief, Environmental Enforcement Section, Environment and Natural Resources Division.

[FR Doc. 2013-20830 Filed 8-26-13; 8:45 am]

BILLING CODE 4410-15-P